DEPARTMENT OF AGRICULTURE

Food and Nutrition Service

National Advisory Council on Maternal, Infant and Fetal Nutrition; Notice of Meeting

AGENCY: Food and Nutrition Service, USDA.

ACTION: Notice of meeting.

SUMMARY: Pursuant to the Federal Advisory Committee Act, this notice announces a meeting of the National Advisory Council on Maternal, Infant and Fetal Nutrition.

DATES: July 21-23, 2009, 9 a.m.-5:30 p.m.

ADDRESSES: The meeting will be held at the Food and Nutrition Service, 3101 Park Center Drive, Room 830 (July 21), Room 204 A & B (July 22-23), Alexandria, VA 22302.

FOR FURTHER INFORMATION CONTACT: Carla McTigue, Supplemental Food Programs Division, Food and Nutrition Service, Department of Agriculture, (703) 305-2086.

SUPPLEMENTARY INFORMATION: The Council will continue its study of the Special Supplemental Nutrition Program for Women, Infants and Children (WIC), and the Commodity Supplemental Food Program (CSFP). The agenda will include updates and discussion of implementation of the WIC food package, WIC cost containment, CSFP Farm Bill provisions, participation trends, and current research studies. Meetings of the Council are open to the public. Members of the public may participate, as time permits. Members of the public may file written statements before or after the meeting with Carla McTigue, Supplemental Food Programs Division, 3101 Park Center Drive, Room 522, Alexandria, Virginia 22302. If members of the public need special accommodations, please notify Mr. Dennis Murray by July 7, 2009, at (703) 305-2704, or e-mail at dennis.murray@fns.usda.gov.

Dated: July 1, 2009.
Julia Paradis,
Administrator.

[FR Doc. E9-15970 Filed 7-6-09; 8:45 am]

BILLING CODE 3410-30-P